DEPARTMENT OF THE TREASURY

Internal Revenue Service

26 CFR Part 1

Consolidated Returns; Intercompany Obligations

CFR Correction

In Title 26 of the Code of Federal Regulations, Part 1 (§§ 1.1401 to 1.1550), revised as of April 1, 2009, on page 347, in §1.1502-13, move the first paragraph (g)(3)(i)(B)(1)(vi) into numerical order to follow (g)(3)(i)(B)(1)(v), remove the second paragraph (g)(3)(i)(B)(1)(vi), and reinstate paragraph (g)(3)(i)(B)(1)(iv) to read as follows:

§ 1.1502-13 Intercompany transactions.

* * * * *

(g) * * *

(3) * * *

(i) * * *

(B) * * *

(1) * * *

(iv) The transferee member has a nonmember shareholder;

* * * * *

[FR Doc. 2010-7094 Filed 3-29-10; 8:45 am]

BILLING CODE 1505-01-D